DEPARTMENT OF HOUSING AND URBAN DEVELOPMENT

[Docket No. FR-5168-D-04]

Revocation and Redelegation of Authority Under the Age Discrimination Act of 1975

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO under the Age Discrimination Act of 1975, and retains and redelegates this authority, with noted exceptions, to the General Deputy Assistant Secretary for FHEO, who in turn redelegates certain authority to the Deputy Assistant Secretary for Enforcement and Programs, Director of the Office of Enforcement and FHEO Region Directors.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: In a previous delegation, the Secretary delegated to the Assistant Secretary for FHEO the authority to act under the Age Discrimination Act of 1975. (68 FR 43156, July 21, 2003). Since then, FHEO the title of the Hub Directors has been changed to FHEO Region Directors. In this notice, the Assistant Secretary for FHEO revokes prior redelegations and retains and, with noted exceptions, redelegates authority under the Age Discrimination Act to the General Deputy Assistant Secretary for FHEO. The General Deputy Assistant Secretary for FHEO, in turn, redelegates certain authority to certain FHEO headquarters and region staff.

Accordingly, the Assistant Secretary for FHEO and the General Deputy Assistant Secretary for FHEO redelegate authority as follows:

Section A. Authority Redelegated

The Assistant Secretary for FHEO retains and, with noted exceptions, redelegates to the General Deputy Assistant Secretary for FHEO the authority to act under the Age Discrimination Act of 1975. This includes the authority to further redelegate authority. The General Deputy Assistant Secretary for FHEO retains and, with noted exceptions, redelegates this authority to the Deputy Assistant Secretary for Enforcement and Programs, Director of the Office of Enforcement, and the FHEO Region Directors.

Section B. Authority Excepted

The authority redelegated by the Assistant Secretary does not include the authority to issue or waive regulations. The authority redelegated by the General Deputy Assistant Secretary does not include the authority to determine that voluntary compliance cannot be achieved pursuant to 24 CFR 146.39(d)(1), the authority to terminate financial assistance under 24 CFR 146.39(a)(1), the authority to refer to the Department of Justice or secure compliance by other means pursuant to 24 CFR 146.39(a)(2), the authority to defer new federal financial assistance under 24 CFR 146.39(e), or authority to further redelegate.

Section C. Authority Revoked

All prior redelegations of authority made within the office of the Assistant Secretary for FHEO under the Age Discrimination Act of 1975 are revoked.

Authority: Section 7(d) of the Department of Housing and Urban Development Act (42 U.S.C. 3535(d)).

Dated: May 31, 2007.
Kim Kendrick,
Assistant Secretary for Fair Housing and Equal Opportunity.
Cheryl Ziegler,
General Deputy Assistant Secretary for Fair Housing and Equal Opportunity.

Editorial Note: This document was received at the Office of the Federal Register on December 12, 2007.

[FR Doc. E7-24317 Filed 12-14-07; 8:45 am]

BILLING CODE 4210-67-P